DEPARTMENT OF HOMELAND SECURITY

Office of the Secretary

6 CFR Chs. I and II

Semiannual Regulatory Agenda

Correction

The regulatory agenda of the Department of Homeland Security, published in the Unified Agenda of Federal Regulatory and Deregulatory Actions, part IX of the issue of Monday, December 22, 2003 (68 FR 72922), should include the following two entries.

Department of Homeland Security (DHS)

Bureau of Citizenship and Immigration Services—Final Rule Stage

• EXTENDING THE FILING DEADLINE AND REMOVING THE APPLICATION FEE WHEN APPLYING FOR POSTHUMOUS UNITED STATES CITIZENSHIP

Priority: Other Significant

Legal Authority: 8 U.S.C. 1103; 8 U.S.C. 1440 and note; 8 U.S.C. 1440-1; 8 CFR 2

CFR Citation: 8 CFR 3292; 8 CFR 103

Legal Deadline: None

Abstract: This rule amends the regulations of the Department of Homeland Security's (DHS), Bureau of Citizenship and Immigration Services, formerly the Immigration and Naturalization Service, to implement Public Law 107-273, the 21st Century Department of Justice Appropriations Authorization Act, section 11030 (November 2, 2002). Public Law 107-273 amends section 329A of the Immigration and Nationality Act by extending the filing deadline for applications for posthumous citizenship for deceased noncitizen veterans. It will also amend the regulations to remove the prescribed filing fee for Form N-644, Application for Posthumous Citizenship.

Timetable:

Action | Date | FR Cite
Interim Final Rule | 02/00/04
Interim Final Rule Comment Period End | 04/00/04

Regulatory Flexibility Analysis Required: No

Small entities Affected: No

Government Levels Affected: None

Additional Information: Merged with CIS No. 2271-03, Extension of Deadline for Filing for Posthumous Citizenship

Agency Contact: Craig Howie, Adjudications Officer, Adjudications Division, Department of Homeland Security, Bureau of Citizenship and Immigration Services, Room 3040, 425 I Street, NW., Washington, DC 20536, Phone: (202) 616-7869, Fax: (202) 514-0198

RIN: 1615-AB04

Department of Homeland Security (DHS)

Bureau of Citizenship and Immigration Services—Completed Actions

• EXTENSION OF DESIGNATION OF EL SALVADOR UNDER THE TEMPORARY PROTECTED STATUS (TPS) PROGRAM; AUTOMATIC EXTENSION OF EMPLOYMENT AUTHORIZATION DOCUMENT FOR EL SALVADOR

Priority: Other Significant. Major status under 5 U.S.C. 801 is undetermined.

Legal Authority: Immigration and Nationality Act, sec 244; 8 U.S.C. 1254a

CFR Citation: None

Legal Deadline: The designation of El Salvador under the Temporary Protected Status Program expires September 9, 2003.

Abstract: This notice designates El Salvador for TPS for 18 months until March 9, 2005 and automatically extends Employment Authorization Documentation until March 9, 2004.

Timetable:

Action | Date | FR Cite
Notice (CIS No. 2279-03) Extension of Designation of El Salvador Under TPS | 07/16/03 | 68 FR 42071

Regulatory Flexibility Analysis Required: No

Small Entities Affected: No

Government Levels Affected: None

Additional Information: CIS No. 2279-03

Agency Contact: Jonathan Mills, Adjudications Officer, Department of Homeland Security, Bureau of Citizenship and Immigration Services, 425 I Street, NW., Washington, DC 20536, Phone: (202) 514-4754, E-mail:jonathan.mills@dhs.gov

RIN: 1615-AB05

Richard Sloan,
Director, Regulations and Forms Services Division.

[FR Doc. 04-6814 Filed 3-26-04; 8:45 am]

BILLING CODE 6820-27-M